DEPARTMENT OF TRANSPORTATION

Pipeline and Hazardous Materials Safety Administration

[Docket No. PHMSA-2014-0092]

Pipeline Safety: Request for Revision of a Previously Approved Information Collection: National Pipeline Mapping System Program

AGENCY: Pipeline and Hazardous Materials Safety Administration (PHMSA), DOT.

ACTION: Notice and request for comments; extension of comment period.

SUMMARY: On July 30, 2014, (79 FR 44246) PHMSA published a notice and request for comments in the Federal Register titled: “Pipeline Safety: Request for Revision of a Previously Approved Information Collection: National Pipeline Mapping System (NPMS) Program (OMB Control No. 2137-0596)” seeking comments on proposed changes to the NPMS data collection. PHMSA has received a request to extend the comment period in order to provide more time to evaluate the proposed revisions. PHMSA is extending the comment period from September 29, 2014, to December 1, 2014.

DATES: The closing date for filing comments is extended from September 29, 2014, until December 1, 2014.

ADDRESSES: You may submit comments identified by Docket No. PHMSA-2014-0092 through one of the following methods:

• Federal eRulemaking Portal: http://www.regulations.gov. Follow the online instructions for submitting comments.

• Fax: 202-493-2251

• Mail or Hand Delivery: Docket Management Facility, U.S. Department of Transportation, 1200 New Jersey Avenue SE., West Building, Room W12-140, Washington, DC 20590, between 9:00 a.m. and 5:00 p.m., Monday through Friday, except on Federal holidays.

• Instructions: Identify the docket number, PHMSA-2014-0092, at the beginning of your comments. Note that all comments received will be posted without change to http://www.regulations.gov, including any personal information provided. You should know that anyone is able to search the electronic form of all comments received in any of our dockets by the name of the individual submitting the comment (or signing the comment, if submitted on behalf of an association, business, labor union, etc.). Therefore, you may want to review DOT's complete Privacy Act Statement in the Federal Register published on April 11, 2000 (65 FR 19477), or visit http://www.regulations.gov before submitting any such comments.

• Docket: For access to the docket or to read background documents or comments, go to http://www.regulations.gov at any time or to Room W12-140 on the ground level of DOT's West Building, 1200 New Jersey Avenue SE., Washington, DC, between 9:00 a.m. and 5:00 p.m., Monday through Friday, except Federal holidays. If you wish to receive confirmation of receipt of your written comments, please include a self-addressed, stamped postcard with the following statement: “Comments on: PHMSA-2014-0092.” The Docket Clerk will date stamp the postcard prior to returning it to you via the U.S. mail. Please note that due to delays in the delivery of U.S. mail to Federal offices in Washington, DC, we recommend that persons consider an alternative method (internet, fax, or professional delivery service) of submitting comments to the docket and ensuring their timely receipt at DOT.

FOR FURTHER INFORMATION CONTACT: Amy Nelson, GIS Manager, Program Development Division, U.S. Department of Transportation, 1200 New Jersey Avenue SE., Washington, DC 20590, by phone at 202-493-0591 or email at amy.nelson@dot.gov.

SUPPLEMENTARY INFORMATION: On July 30, 2014, (79 FR 44246) PHMSA published a notice and request for comments on the proposed changes to the NPMS data collection. The NPMS is a geospatial dataset that contains information about PHMSA-regulated gas transmission pipelines, hazardous liquid pipelines, and hazardous liquid low-stress gathering lines. The NPMS also contains data layers for all liquefied natural gas plants and a partial dataset of PHMSA-regulated breakout tanks. PHMSA is proposing to expand the collection of this data to include more detailed information on several data elements.

On September 4, 2014, the American Gas Association (AGA) requested PHMSA extend the comment period by 30 days. AGA supported their request stating that, within the notice, PHMSA outlines thirty-one different pipeline attributes that are requested in a geospatial format specified by PHMSA and that a 60-day comment period does not allow AGA, or its operators, time to fully evaluate the burden associated with meeting PHMSA's proposal. AGA also stated that the additional time would allow them to conduct a survey of its membership to better determine industry capabilities for submitting the data requested by PHMSA in the format specified.

Based on the reasons given by AGA in their request to extend the comment period, PHMSA believes that extension of the comment period is warranted. Therefore, PHMSA is extending the comment period to allow stakeholders additional time to evaluate the proposed changes.

PHMSA is working with the Transportation Security Administration to appropriately identify the sensitivity of all new data elements. If PHMSA were to receive a Freedom of Information Act (FOIA) request for this information, all applicable FOIA exemptions would be reviewed to determine whether the information would be releasable to the public.

PHMSA understands that time will be needed for operators to acquire, organize or geospatially enable the data elements in the Information Collection Notice. A phased approach is being considered. PHMSA invites comments about a realistic timeline for pipeline operators to comply with the new NPMS submission requirements.

Summary of Impacted Collections:

The following information is provided for this information collection: (1) Title of the information collection, (2) OMB control number, (3) Current expiration date, (4) Type of request, (5) Abstract of the information collection activity, (6) Description of affected public, (7) Estimate of total annual reporting and recordkeeping burden, and (8) Frequency of collection. PHMSA requests comments on the following information collection:

OMB Control Number: 2137-0596

Title: National Pipeline Mapping System Program

Form Numbers: N/A

Type of Review: Revision of a Previously Approved Information Collection

Abstract: Each operator of a pipeline facility (except distribution lines and gathering lines) must provide PHMSA geospatial data for their pipeline system and contact information. The provided information is incorporated into the NPMS to support various regulatory programs, pipeline inspections, and authorized external customers. Following the initial submission of the requested data, the operator must make a new submission to the NPMS if any changes occur so PHMSA can maintain and improve the accuracy of the NPMS's information.

Respondents: Operators of natural gas, hazardous liquid, and liquefied natural gas pipelines.

Number of Respondents: 1,211.

Frequency: Annual.

Number of Responses: 1,211.

Total Annual Burden: 420,516 hours.

Public Comments Invited: You are asked to comment on any aspect of this information collection including: (a) Whether the proposed collection of information is necessary for the Department's performance; (b) the accuracy of the estimated burden; (c) ways for the Department to enhance the quality, utility, and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1.48.

Issued in Washington, DC on September 24, 2014, under authority delegated in 49 CFR 1.97.
Jeffrey D. Wiese,
Associate Administrator for Pipeline Safety.

[FR Doc. 2014-23174 Filed 9-29-14; 8:45 am]

BILLING CODE P